ENVIRONMENTAL PROTECTION AGENCY

40 CFR Part 52

[MS 23-1-200242(b); FRL-7424-4]

Approval and Promulgation of Implementation Plans for Mississippi: Infectious Waste Incinerator Requirements

AGENCY: Environmental Protection Agency (EPA).

ACTION: Proposed rule.

SUMMARY: The EPA is proposing to approve a revision to the Mississippi State Implementation Plan (SIP) modifying infectious waste incineration requirements to reflect current Emissions Guidelines approved in the State for existing hospital/medical/infectious waste incinerator units. In the Final Rules Section of this Federal Register, the EPA is approving the State's SIP revision as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule. The EPA will not institute a second comment period on this document. Any parties interested in commenting on this document should do so at this time.

DATES: Written comments must be received on or before January 21, 2003.

ADDRESSES: Environmental Protection Agency, Region 4, Air Planning Branch, 61 Forsyth Street, SW., Atlanta, Georgia 30303-8960. (Michele Notarianni, (40) 562-9031, notarianni.michele@epa.gov) Mississippi Department of Environmental Quality, Air Division, PO Box 10385, Jackson, Mississippi 39289-0385. (601) 961-5171)

FOR FURTHER INFORMATION CONTACT: Michele Notarianni at address listed above or (404) 562-9031 (phone) or notarianni.michele@epa.gov (e-mail).

SUPPLEMENTARY INFORMATION: For additional information see the direct final rule which is published in the Rules Section of this Federal Register.

Dated: December 2, 2002.
J. I. Palmer Jr.,
Regional Administrator, Region 4.

[FR Doc. 02-31978 Filed 12-19-02; 8:45 am]

BILLING CODE 6560-50-P